DEPARTMENT OF THE TREASURY

Office of Thrift Supervision

[AC-04: H-4113 and 06923]

Roebling Financial Corp., Inc., Roebling, NJ; Approval of Conversion Application

Notice is hereby given that on August 13, 2004, the Assistant Managing Director, Examinations and Supervision—Operations, Office of Thrift Supervision (OTS), acting pursuant to delegated authority, approved the application of Roebling Financial Corp., MHC, and Roebling Bank, Roebling, New Jersey, to convert to the stock form of organization. Copies of the application are available for inspection by appointment (phone number: 202-906-5922 or e-mail: Public.Info@OTS.Treas.gov) at the Public Reading Room, OTS, 1700 G Street, NW., Washington, DC 20552, and the Northeast Regional Office, Harborside Financial Center Plaza Five, Suite 1600, Jersey City, New Jersey 07311.

By the Office of Thrift Supervision.

Dated: August 26, 2004.
Nadine Y. Washington,
Corporate Secretary.

[FR Doc. 04-19873 Filed 8-30-04; 8:45 am]

BILLING CODE 6720-01-M